DEPARTMENT OF ENERGY

Federal Energy Regulatory Commission

Combined Notice of Filings #1

Take notice that the commission received the following accounting Request filings:

Docket Numbers: AC25-49-000.

Applicants: Entergy Services, LLC, Entergy New Orleans, LLC.

Description: Entergy Services LLC, et al. submits request for a limited waiver of Distribution Expense Account 593, Maintenance of overhead lines (Major only) re permission of capitalization of anticipated asset transfer cost, etc.

Filed Date: 1/17/25.

Accession Number: 20250117-5078.

Comment Date: 5 p.m. ET 2/7/25.

Take notice that the Commission received the following electric rate filings:

Docket Numbers: ER21-209-004.

Applicants: PECO Energy Company, PJM Interconnection, L.L.C.

Description: Compliance filing: PECO Energy Company submits tariff filing per 35: PECO Clean-Up Filing to Adopt Certain Apprved Updates into Att H-7A to be effective 5/29/2020.

Filed Date: 1/17/25.

Accession Number: 20250117-5082.

Comment Date: 5 p.m. ET 2/7/25.

Docket Numbers: ER21-1365-003.

Applicants: Fowler Ridge IV Wind Farm LLC.

Description: Informational Filing Regarding Upstream Transfer of Ownership and Request for Confidential Treatment, Waiver, and Expedited Action of Fowler Ridge IV Wind Farm LLC.

Filed Date: 1/13/25.

Accession Number: 20250113-5228.

Comment Date: 5 p.m. ET 2/3/25.

Docket Numbers: ER24-232-003.

Applicants: New York Transco, LLC, New York Independent System Operator, Inc.

Description: Compliance filing: New York Independent System Operator, Inc. submits tariff filing per 35: NY Transco Compliance: Propel NY Settlement to be effective 12/27/2023.

Filed Date: 1/17/25.

Accession Number: 20250117-5176.

Comment Date: 5 p.m. ET 2/7/25.

Docket Numbers: ER24-1614-003.

Applicants: Orange and Rockland Utilities, Inc., New York Independent System Operator, Inc.

Description: Compliance filing: New York Independent System Operator, Inc. submits tariff filing per 35: O&R Compliance re: Rate Schedules 10 and 19 to be effective 5/25/2024.

Filed Date: 1/17/25.

Accession Number: 20250117-5057.

Comment Date: 5 p.m. ET 2/7/25.

Docket Numbers: ER24-1993-001.

Applicants: NorthWestern Corporation.

Description: Compliance filing: Order 2023 Second Compliance Filing to be effective 7/10/2024.

Filed Date: 1/17/25.

Accession Number: 20250117-5108.

Comment Date: 5 p.m. ET 2/7/25.

Docket Numbers: ER24-2038-001.

Applicants: UNS Electric, Inc.

Description: Compliance filing: Order Nos. 2023 and 2023-A Second Compliance Filing to be effective 8/15/2024.

Filed Date: 1/17/25.

Accession Number: 20250117-5102.

Comment Date: 5 p.m. ET 2/7/25.

Docket Numbers: ER24-2563-002.

Applicants: Sheetz Energy Inc.

Description: Tariff Amendment: Sheetz Energy Amended MBR Application Filing to be effective 9/30/2024.

Filed Date: 1/17/25.

Accession Number: 20250117-5103.

Comment Date: 5 p.m. ET 2/7/25.

Docket Numbers: ER25-871-001.

Applicants: Midcontinent Independent System Operator, Inc.

Description: Tariff Amendment: 2025-01-17_SA 3258 Big Rivers Electric-Clover Creek Solar Sub 2nd Rev GIA (J753) to be effective 12/30/2024.

Filed Date: 1/17/25.

Accession Number: 20250117-5074.

Comment Date: 5 p.m. ET 2/7/25.

Docket Numbers: ER25-962-000.

Applicants: PJM Interconnection, L.L.C.

Description: 205(d) Rate Filing: Interface Pricing Reform Proposal to be effective 3/19/2025.

Filed Date: 1/17/25.

Accession Number: 20250117-5016.

Comment Date: 5 p.m. ET 2/7/25.

Docket Numbers: ER25-963-000.

Applicants: Cheyenne Light, Fuel and Power Company.

Description: 205(d) Rate Filing: Filing of LGIA with DUTC bn, LLC to be effective 12/19/2024.

Filed Date: 1/17/25.

Accession Number: 20250117-5037.

Comment Date: 5 p.m. ET 2/7/25.

Docket Numbers: ER25-964-000.

Applicants: International Transmission Company.

Description: 205(d) Rate Filing: 2025-01-17_SA 4435 ITCTransmission-DTE Electric E&P (J2676) to be effective 1/16/2025.

Filed Date: 1/17/25.

Accession Number: 20250117-5067.

Comment Date: 5 p.m. ET 2/7/25.

Docket Numbers: ER25-965-000.

Applicants: Midcontinent Independent System Operator, Inc.

Description: 205(d) Rate Filing: 2025-01-17_SA 4432 ITCTransmission-DTE Electric GIA (Greenwood Energy Center) to be effective 1/13/2025.

Filed Date: 1/17/25.

Accession Number: 20250117-5070.

Comment Date: 5 p.m. ET 2/7/25.

Docket Numbers: ER25-967-000.

Applicants: PJM Interconnection, L.L.C.

Description: 205(d) Rate Filing: Administrative Clean-Up Filing, Tariff, Schedule 6A to be effective 12/1/2024.

Filed Date: 1/17/25.

Accession Number: 20250117-5099.

Comment Date: 5 p.m. ET 2/7/25.

Docket Numbers: ER25-968-000.

Applicants: California Independent System Operator Corporation.

Description: 205(d) Rate Filing: 2025-01-17 Capacity Procurement Mechanism Tariff Amendment to be effective 12/31/9998.

Filed Date: 1/17/25.

Accession Number: 20250117-5130.

Comment Date: 5 p.m. ET 2/7/25.

Docket Numbers: ER25-969-000.

Applicants: PJM Interconnection, L.L.C.

Description: 205(d) Rate Filing: Amendment to ISA, SA No. 5619; Queue No. AC1-221/AD1-058 to be effective 3/19/2025.

Filed Date: 1/17/25.

Accession Number: 20250117-5171.

Comment Date: 5 p.m. ET 2/7/25.

Docket Numbers: ER25-970-000.

Applicants: New England Power Company.

Description: 205(d) Rate Filing: 01-17-25 Filing to Revise Depreciation Rates Contained in Service Agmt. No. 20 to be effective 10/1/2024.

Filed Date: 1/17/25.

Accession Number: 20250117-5184.

Comment Date: 5 p.m. ET 2/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 17, 2025.
Debbie-Anne A. Reese,
Secretary.

[FR Doc. 2025-01734 Filed 1-24-25; 8:45 am]

BILLING CODE 6717-01-P